DEPARTMENT OF STATE

[Public Notice 10106]

60-Day Notice of Proposed Information Collection: Electronic Medical Examination for Visa or Applicant

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to November 6, 2017.

ADDRESSES: You may submit comments by any of the following methods:

• Web: Persons with access to the Internet may comment on this notice by going to www.Regulations.gov. You can search for the document by entering “Docket Number: DOS-2017-0035 in the Search field. Then click the “Comment Now” button and complete the comment form.

• Email: PRA_BurdenComments@state.gov.

You must include the DS form number (if applicable), information collection title, and the OMB control number in any correspondence.

FOR FURTHER INFORMATION CONTACT: Direct requests for additional information regarding the collection listed in this notice, including requests for copies of the proposed collection instrument and supporting documents to Sydney Taylor, who may be reached at PRA_BurdenComments@state.gov.

SUPPLEMENTARY INFORMATION:

• Title of Information Collection: Electronic Medical Examination for Visa Applicant.

• OMB Control Number: None.

• Type of Request: New Collection.

• Originating Office: Bureau of Consular Affairs, Visa Office (CA/VO/L/R).

• Form Number: No form.

• Respondents: Visa applicants.

• Estimated Number of Respondents: 684,589.

• Estimated Number of Responses: 684,589.

• Average Time per Response: 1 hour.

• Total Estimated Burden Time: 684,589 annual hours.

• Frequency: Once per respondent.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

This electronic collection records medical information necessary to determine whether visa applicants have medical conditions affecting the applicant's eligibility for a visa.

Methodology

Approved panel physicians will be granted access to an eMedical system by the Department of State, to conduct medical examinations for visa eligibility determinations. During the initial rollout, some immigrant visa applicants with a completed and submitted DS-260, Application for Immigrant Visa and Alien Registration will have their medical exam results submitted to the Department via the eMedical system. The panel physician will input the exam information into the eMedical portal and it will be transmitted to the Department for visa adjudication and retained in the Department's systems. The Department anticipates a full rollout of the electronic medical report by the end of 2018. During the transition to eMedical, some applicants' medical exams will be completed via paper forms.

Edward Ramotowski,
Deputy Assistant Secretary, Bureau of Consular Affairs, Department of State.

[FR Doc. 2017-18704 Filed 9-1-17; 8:45 am]

BILLING CODE 4710-06-P